DEPARTMENT OF TRANSPORTATION

Office of the Secretary

Notice of Applications for Certificates of Public Convenience and Necessity and Foreign Air Carrier Permits Filed Under Subpart B (Formerly Subpart Q) During the Week Ending January 25, 2002

The following applications for certificates of public convenience and necessity and foreign air carrier permits were filed under subpart B (formerly subpart Q) of the Department of Transportation's procedural regulations (See 14 CFR 301.201 et. seq.). The due date for answers, conforming applications, or motions to modify scope are set forth below for each application. Following the answer period DOT may process the application by expedited procedures. Such procedures may consist of the adoption of a show-cause order, a tentative order, or in appropriate cases a final order without further proceedings.

Docket Number: OST-1995-477.

Date Filed: January 24, 2002.

Due Date for Answers, Conforming Applications, or Motion to Modify Scope: February 14, 2002.

Description: Application of Laker Airways (Bahamas) Limited, pursuant to 49 U.S.C. Section 41302, requesting an amendment and re-issuance of its foreign air carrier permit to engage in scheduled air transportation of persons, property and mail on the following Bahamas-U.S. scheduled combination routes; co-terminal points Freeport and Nassau, Bahamas on the one hand, and the terminal points Pittsburgh, Pennsylvania; Dallas/Ft. Worth, Texas; and Milwaukee, Wisconsin on the other hand.

Docket Number: OST-1998-3758.

Date Filed: January 25, 2002.

Due Date for Answers, Conforming Applications, or Motion to Modify Scope: February 15, 2002.

Description: Application of Northwest Airlines, Inc. amending its pending certificate of public convenience to engage in the scheduled foreign air transportation of persons, property, and mail from points behind the United States via the United States and intermediate points to a point or points in France and beyond; from points behind the United States via the United States and intermediate points to French Departments of America and beyond; from points behind the United States via the United States to New Caledonia and/or Wallis and Futuna; from points behind the United states via the United States and intermediate points to French Polynesia and beyond; from points behind the United States via the United States and intermediate points to Saint Pierre and Miquelon and beyond. Northwest also requests that it's pending certificate application be amended to seek authorization to engage in the scheduled foreign air transportation of property and mail between France and any point or points. Northwest further requests that the Department integrate the requested certificate authority with all of Northwest's existing certificate and exemption authority to the extent consistent with U.S. bilateral agreements and DOT policy.

Docket Number: OST-2002-11418.

Date Filed: January 25, 2002.

Due Date for Answers, Conforming Applications, or Motion to Modify Scope: February 15, 2002.

Description: Application of Southern Winds, S.A. pursuant to 49 U.S.C. section 41302 part 211 and subpart B, requesting a foreign air carrier permit to engage in scheduled foreign air transportation of persons, property, and mail between a point or points behind Argentina, points in Argentina, and intermediate points, on the one hand, and Miami, New York, Los Angeles, San Juan, Dallas, Orlando, Atlanta, and seven other Argentina-designated points in the United States, (five of which to be served on a code share only basis) and beyond to Montreal, Toronto, Korea and Spain, on the other, and between points in Argentina and intermedieate points, to San Juan and beyond to third countries.

Dorothy Y. Beard,
Federal Register Liaison.

[FR Doc. 02-3215 Filed 2-8-02; 8:45 am]

BILLING CODE 4910-62-P